DEPARTMENT OF THE INTERIOR

Office of the Secretary

Proposed Renewal of Information Collection: OMB Control Number 1093-0005, Payments in Lieu of Taxes

AGENCY: Office of Budget, Interior.

ACTION: Notice and Request for Comments.

SUMMARY: In compliance with section 3506(c)(2)(A) of the Paperwork Reduction Act of 1995, the Office of Budget, Office of the Secretary, Department of the Interior (DOI), announces the proposed extension of a public information collection required by the Payments in Lieu of Taxes Act (PILT) and seeks public comments on the provisions thereof. After public review, the Office of Budget will submit the information collection to Office of Management and Budget (OMB) for review and approval.

DATES: Consideration will be given to all comments received by August 17, 2009.

ADDRESSES: Send your written comments to the U.S. Department of the Interior, Office of the Secretary, Office of Budget, Attn. Brian Yost, 1849 C St., NW., MS 4119 MIB, Washington, DC 20240. Send any faxed comments to (202) 208-3911, attn Brian Yost. Comments may also be e-mailed to Brian_Yost@ios.doi.gov. Individuals providing comments should reference OMB Control Number 1093-0005, “Payments in Lieu of Taxes (PILT Act), Statement of Federal Land Payments, 143 CFR 441.” Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Requests for additional information on this renewed information collection should be directed to Brian Yost at U.S. Department of the Interior, Office of the Secretary, Office of Budget, 1849 C St., NW., MS 4119 MIB, Washington, DC 20240. You may also fax requests for further information to (202) 208-3911, or e-mail him at Brian_Yost@ios.doi.gov.

SUPPLEMENTARY INFORMATION:

I. Abstract

Office of Management and Budget (OMB) regulations at 5 CFR part 1320, which implement the Paperwork Reduction Act of 1995 (Pub. L. 104-13), require that interested members of the public and affected agencies have an opportunity to comment on information collection and recordkeeping activities (see 5 CFR 1320.8(d)). This notice identifies an information collection activity that the Office of Budget is planning to submit to OMB for extension or re-approval.

Public Law 97-258 (31 U.S.C. 6901-6907), as amended, the Payments in Lieu of Taxes (PILT) Act, was designed by Congress to help local governments recover some of the expenses they incur in providing services on public lands. These local governments receive funds under various Federal land payment programs such as the National Forest Revenue Act, the Mineral Lands Leasing Act, and the Taylor Grazing Act. PILT payments supplement the payments that local governments receive under these other programs.

The PILT Act requires that the Governor of each State furnish the Department of the Interior with a listing of payments disbursed to local governments by the States on behalf of the Federal Government under 12 statutes described in Section 4 of the Act (31 U.S.C. 6903). The Department of the Interior uses the amounts reported by the States to reduce PILT payments to units of general local governments from that which they might otherwise receive. If such listings were not furnished by the Governor of each affected State, the Department would not be able to compute the PILT payments to units of general local government within the States in question.

In fiscal year 2004, administrative authority for the PILT program was transferred from the Bureau of Land Management to the Office of the Secretary of the Department of the Interior. Applicable DOI regulations pertaining to the PILT program to be administered by the Office of the Secretary were published as a final rule in the Federal Register on December 7, 2004 (69 FR 70557). The Office of Budget, Office of the Secretary is now planning to extend the information collection approval authority in order to enable the Department of the Interior to continue to comply with the PILT Act.

II. Data

(1) Title: Payments in Lieu of Taxes (PILT Act), Statement of Federal Land Payments (43 CFR 44).

OMB Control Number: 1093-0005.

Current Expiration Date: December 31, 2009.

Type of Review: Information Collection Renewal.

Affected Entities: State, local or Tribal government.

Estimated Annual Number of Respondents: 43.

Frequency of Response: Annual.

(2) Annual Reporting and Record Keeping Burden: Average Reporting Burden per Application: 50 hours.

Total Annual Reporting: 2,150 hours.

(3) Description of the Need and Use of the Information: The statutorily-required information is needed to compute payments due units of general local government under the PILT Act (31 U.S.C. 6901-6907). The Act requires that the Governor of each State furnish a statement as to amounts paid to units of general local government under 12 revenue-sharing statutes in the prior fiscal year.

III. Request for Comments

Comments are invited on: (a) Whether the collection of information is necessary for the proper performance of the functions of the agency, including whether the information will have practical utility; (b) The accuracy of the agency's estimate of the burden of the information collection; (c) Ways to enhance the quality, utility, and clarity of the information to be collected; and (d) Ways to minimize the burden of the collection of information on those who respond, including through the use of appropriate automated, electronic, mechanical, or other collection techniques or other forms of information technology.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

An agency may not conduct or sponsor, and a person is not required to respond to, a collection of information unless it displays a currently valid Office of Management and Budget control number.

All written comments will be available for public inspection in the Main Interior Building, 1849 C Street, NW., Washington, DC during normal business hours, excluding legal holidays. For an appointment to inspect comments, please contact Brian Yost by telephone on (202) 208-7409, or by e-mail at Brian_Yost@ios.doi.gov to make an appointment. A valid picture identification is required for entry into the Department of the Interior.

Pam Haze,
Deputy Assistant Secretary, Budget and Business Management.

[FR Doc. E9-14261 Filed 6-16-09; 8:45 am]

BILLING CODE 4310-RK-P